DEPARTMENT OF TRANSPORTATION

Federal Aviation Administration

14 CFR Part 71

[Docket No. FAA-2025-0400; Airspace Docket No. 25-AEA-4]

RIN 2120-AA66

Revocation of Class D and Class E4 Airspace; Establishment of Class E2 Airspace; Amendment of Class E5 Airspace, Aberdeen, MD

AGENCY: Federal Aviation Administration (FAA), DOT.

ACTION: Final rule; correction.

SUMMARY: This action corrects a final rule published in the Federal Register on June 2, 2025, that removes Class D and E4 airspace, establishes Class E2 airspace, and amends Class E5 airspace at Aberdeen, MD, at the request of the U.S. Army. This action corrects that rule by removing verbiage in the Aberdeen, MD, Class E2 airspace legal description that erroneously indicates a part-time status of that airspace.

DATES: Effective 0901 UTC, October 2, 2025. The Director of the Federal Register approves this incorporation by reference action under 1 CFR part 51, subject to the annual revision of FAA Order 7400.11 and publication of conforming amendments.

ADDRESSES: FAA Order 7400.11J, Airspace Designations and Reporting Points, and subsequent amendments can be viewed online at www.faa.gov/air_traffic/publications/. You may also contact the Rules and Regulations Group, Policy Directorate, Federal Aviation Administration, 600 Independence Avenue SW, Washington, DC 20597; Telephone: (202) 267-8783.

FOR FURTHER INFORMATION CONTACT: Marc Ellerbee, Operations Support Group, Eastern Service Center, Federal Aviation Administration, 1701 Columbia Ave., College Park, GA 30337; Telephone (404) 305-5589.

SUPPLEMENTARY INFORMATION:

History

The FAA published a final rule in the Federal Register (90 FR 23273; June 2, 2025), removing Class D and E4 airspace, establishing Class E2 airspace, and amending Class E5 airspace at Aberdeen, MD. As part of that final rule, the verbiage in the Class E2 airspace legal description for Phillips Army Airfield (AAF), Aberdeen, MD, was incorrect, erroneously indicating a part-time status. In fact, the Class E2 airspace at Phillips AAF will be effective on a full-time basis. This action corrects that error by amending the airspace legal description to accurately reflect its full-time status.

Correction to the Final Rule

Accordingly, pursuant to the authority delegated to me, in Docket No. FAA-2025-0400, as published in the Federal Register on June 2, 2025, FR Doc. 2025-09856 is corrected as follows:

1. On page 23275, in the first column, in the eighth full paragraph, under the section titled, “AEA MD E2 Aberdeen, MD [New],” the following sentences are removed: “This Class E airspace area is effective during the specific dates and times established in advance by a Notice to Airmen. The specific date and time will thereafter be continuously published in the Chart Supplement.” The corrected text should read as follows:

§ 71.1 [Amended]

Paragraph 6002 Class E Airspace Areas Designated as Surface Areas.

* * * * *

AEA MD E2 Aberdeen, MD [New]

Phillips AAF, MD

(Lat. 39°27′56″ N, long. 76°10′06″ W)

That airspace extending upward from the surface within a 4.4-mile radius of Phillips AAF; excluding that airspace in Restricted Area R-4001A when it is in effect.

Issued in College Park, Georgia, on August 20, 2025.
Patrick Young,
Manager, Airspace & Procedures Team North, Eastern Service Center, Air Traffic Organization.

[FR Doc. 2025-16159 Filed 8-21-25; 8:45 am]

BILLING CODE 4910-13-P